INTERNATIONAL TRADE COMMISSION

[Investigation No. TA-201-71]

Crabmeat From Swimming Crabs

AGENCY: United States International Trade Commission.

ACTION: Amendment of scope of the investigation to exclude shelf-stable crabmeat.

SUMMARY: At the request of petitioners in the investigation, the Commission amended the scope of investigation No. TA-201-71, Crabmeat from Swimming Crabs, to exclude shelf-stable crabmeat. Shelf-stable crabmeat is defined as crabmeat that is packed in airtight containers and is produced using additives and a thermal manufacturing process so that it requires no refrigeration. The Commission's notice of institution of the investigation was published in the Federal Register of March 20, 2000 (65 FR 15008).

EFFECTIVE DATE: June 23, 2000.

FOR FURTHER INFORMATION CONTACT: Mary Messer (202-205-3193), Office of Investigations, U.S. International Trade Commission, 500 E Street SW, Washington, DC 20436.

Issued: June 26, 2000.
By order of the Commission.
Donna R. Koehnke,
Secretary.

[FR Doc. 00-16592 Filed 6-29-00; 8:45 am]

BILLING CODE 7020-02-P